DEPARTMENT OF DEFENSE

Office of the Secretary

Missile Defense Advisory Committee; Notice of Closed Meeting

AGENCY: Department of Defense; Missile Defense Agency (MDA).

ACTION: Notice of closed meeting.

SUMMARY: Under the provisions of the Federal Advisory Committee Act of 1972 (5 U.S.C., Appendix, as amended) and the Government in the Sunshine Act of 1976 (5 U.S.C. 552b, as amended) and 41 CFR 102-3.150, the Department of Defense announces that the following Federal advisory committee meeting of the Missile Defense Advisory Committee will take place.

DATES: Tuesday, August 16, 2011 through Thursday, August 18, 2011 from 8 a.m. to 5:30 p.m. each day. Security clearance and visit requests are required for access.

ADDRESSES: 5700 18th Street, Building 245, Fort Belvoir, Virginia 22060-5573.

FOR FURTHER INFORMATION CONTACT: Mr. David Bagnati, Designated Federal Officer at MDAC@mda.mil, phone/voice mail 571-231-8113, or mail at 5700 18th Street, Building 245, Fort Belvoir, Virginia 22060-5573.

SUPPLEMENTARY INFORMATION:

Purpose of the Meeting: At this meeting, the Committee will receive classified information on Directed Energy.

Agenda: Topics tentatively scheduled for classified discussion include, but are not limited to briefings on Ballistic Missile Defense System Architecture and Laser Systems Concepts; United States European Phased Adaptive Approach; Ballistic Missile Defense Strategic Issues; Annual Ethics Training; Annual Security Refresher; Missile Defense Advisory Committee Executive Session; and Missile Defense Advisory Committee preliminary outbrief to the Director, Missile Defense Agency.

Meeting Accessibility: Pursuant to 5 U.S.C. 552b, as amended, and 41 CFR 102-3.155 the Missile Defense Agency has determined that the meeting shall be closed to the public. The Director, Missile Defense Agency, in consultation with the Missile Defense Agency Office of General Counsel, has determined in writing that the public interest requires that all sessions of the committee's meeting will be closed to the public because they will be concerned with classified information and matters covered by 5 U.S.C. 552b(c)(1).

Committee's Designated Federal Officer: Mr. David Bagnati, MDAC@mda.mil, phone/voice mail 571-231-8113, or mail at 5700 18th Street, Building 245, Fort Belvoir, Virginia 22060-5573. Pursuant to 41 CFR 102-3.105(j) and 102-3.140, and section 10(a)(3) of the Federal Advisory Committee Act of 1972, the public or interested organizations may submit written statements to the membership of the Missile Defense Advisory Committee about its mission and functions. Written statements may be submitted at any time or in response to the stated agenda of a planned meeting of the Missile Defense Advisory Committee.

All written statements shall be submitted to the Designated Federal Officer for the Missile Defense Advisory Committee, in the following formats: One hard copy with original signature and one electronic copy via e-mail (acceptable file formats: Adobe Acrobat PDF, MS Word or MS PowerPoint), and this individual will ensure that the written statements are provided to the membership for their consideration. Contact information for the Designated Federal Officer is as stated above and can also be obtained from the GSA's Federal Advisory Committee Act Database— https://www.fido.gov/facadatabase/public.asp.

Statements being submitted in response to the agenda mentioned in this notice must be received by the Designated Federal Officer at the address listed at least five calendar days prior to the meeting which is the subject of this notice. Written statements received after this date may not be provided to or considered by the Missile Defense Advisory Committee until its next meeting. The Designated Federal Officer will review all timely submissions with the Missile Defense Advisory Committee Chairperson and ensure they are provided to all members of the Missile Defense Advisory Committee before the meeting that is the subject of this notice.

Dated: July 26, 2011.
Aaron Siegel,
Alternate OSD Federal Register Liaison Officer, Department of Defense.

[FR Doc. 2011-19395 Filed 7-29-11; 8:45 am]

BILLING CODE 5001-06-P